DEPARTMENT OF DEFENSE

Office of the Secretary

[Docket ID: DoD-2022-OS-0055]

Department of Defense Science and Technology Reinvention Laboratory Personnel Demonstration Project; Correction

AGENCY: Office of the Under Secretary of Defense for Research and Engineering (OUSD(R&E)), Department of Defense (DoD).

ACTION: Notice; correction.

SUMMARY: The DoD is correcting a notice that appeared in the Federal Register on May 12, 2022. Subsequent to publication of the notice, the DoD discovered that the Docket ID was not listed in the notice. DoD is issuing this correction to provide the Docket ID.

DATES: This correction is effective on May 17, 2022.

FOR FURTHER INFORMATION CONTACT: Patricia Toppings, 571-372-0485.

SUPPLEMENTARY INFORMATION: In FR Doc. 2022-10141 appearing at 87 FR 29134-29137 in the Federal Register of Thursday, May 12, 2022, the following Docket ID is inserted to read [Docket ID: DoD-2022-OS-0055] as set forth above.

Dated: May 12, 2022.
Aaron T. Siegel,
Alternate OSD Federal Register Liaison Officer, Department of Defense.

[FR Doc. 2022-10568 Filed 5-16-22; 8:45 am]

BILLING CODE 5001-06-P